DEPARTMENT OF VETERANS AFFAIRS

Disruption of Mail Service

AGENCY: Department of Veterans Affairs.

ACTION: Notice of exception to date of receipt rule.

SUMMARY: In response to the declaration of national emergency, announced on March 13, 2020, due to the Coronavirus Disease 2019 (COVID-19) outbreak in the United States, the Veterans Benefits Administration (VBA) is instituting temporary provisions for determining the acceptable dates for the receipt of correspondence through postal mail and other mail delivery systems.

FOR FURTHER INFORMATION CONTACT: Cleveland Karren, Director, Policy and Procedures, Compensation Service, Department of Veterans Affairs, 810 Vermont Avenue NW, Washington, DC 20420, (202) 461-9700. (This is not a toll-free telephone number.)

SUPPLEMENTARY INFORMATION: On March 13, 2020, the President of the United States signed a declaration of national emergency due to the COVID-19 outbreak in the United States, beginning March 1, 2020. This COVID-19 outbreak required VBA to dramatically alter its operations in concert with the Federal Government's efforts to combat the spread of the virus in the United States population.

VBA, as part of its efforts to protect Veterans and employees, has in many locations maximized the use of telework from home. In addition, VBA has temporarily closed public contact units within VBA regional offices.

While United States Postal Service operations have continued, limited physical staffing at VBA regional offices could lead to delays in the ability of these regional offices to receive mail and process it timely. At several VBA regional office locations, processing of correspondence—containing claims, pertinent beneficiary information, or related evidence—sent to VA during this period could be significantly interrupted due to VA's involvement in the Federal Government's effort to combat the spread of COVID-19. VA aims to protect the interest of claimants who send such correspondence to VBA through the normal channels of communication during this period and could possibly be deprived of benefits solely because these channels of communication are disrupted during this time of national emergency. Therefore, VA is instituting temporary provisions for determining the acceptable dates for the receipt of correspondence through postal mail and other mail delivery systems.

A VA regulation, 38 Code of Federal Regulations 3.1(r), allows the Under Secretary for Benefits to establish exceptions to VA's rule on the date of receipt of claims, information, or evidence by notice published in the Federal Register. Ordinarily, “date of receipt” means the date on which a claim, information, or evidence was received in a VA office. This regulation states that exceptions may be established when a natural or man-made interference with the normal channels through which VBA ordinarily receives correspondence has resulted in one or more VBA regional offices to experience extended delays in the receipt of claims, information, or evidence to an extent that, if not addressed, the delay would adversely affect such claimants, through no fault of their own.

In March 2020, the COVID-19 outbreak interrupted operations at all VBA regional offices. Correspondence containing claims, information, or evidence sent to VA during this period was likely delayed due to interrupted operations of VBA regional offices. Because VBA regional office mail systems were impacted, VA has established the following exceptions to the standard rule on date of receipt.

Exceptions to Date of Receipt Rule for Claimants Affected by the COVID-19 Outbreak

VA hereby gives notice that, for purposes of determining entitlement to benefits, any correspondence that is received by VA from any claimant, during the period March 1, 2020, through 60 calendar days from the date the President ends the national state of emergency, that contains claims, information, or evidence, will be considered received on the date of postmark. In the event there is no mail postmark, or date stamp by the United States Postal Service, VA will consider the correspondence as received no later than February 29, 2020.

Due to the global nature of the COVID-19 pandemic, this guidance applies to correspondence received during the designated period from all domestic ZIP codes and foreign mail codes.

Signing Authority

The Secretary of Veterans Affairs approved this document and authorized the undersigned to sign and submit the document to the Office of the Federal Register for publication electronically as an official document of the Department of Veterans Affairs. Pamela Powers, Chief of Staff, Performing the Delegable Duties of the Deputy Secretary, Department of Veterans Affairs, approved this document on April 14, 2020, for publication.

Jeffrey M. Martin,
Assistant Director, Office of Regulation Policy & Management, Office of the Secretary, Department of Veterans Affairs.

[FR Doc. 2020-08248 Filed 4-17-20; 8:45 am]

BILLING CODE 8320-01-P